ENVIRONMENTAL PROTECTION AGENCY

[FRL-6542-5]

Disclosure of Confidential Business Information Obtained Under the Comprehensive Environmental Response, Compensation and Liability Act to EPA Region VIII, Enforcement Support Services (ESS), Contractor Toeroek Associates, Inc.

AGENCY: Environmental Protection Agency (EPA).

ACTION: Notice; request for comment.

SUMMARY: EPA hereby complies with the requirements of 40 CFR 2.301(h) and 40 CFR 2.310(h) for authorization to disclose to its contractor, Toeroek Associates, Inc. (hereinafter “Toeroek”) of Arvada, Colorado, certain financial data and cost documentation utilized in cost recovery actions at Superfund sites. Disclosure of this information may occur on sites that are listed on the National Priority List (NPL) as well as on sites that are not on the NPL. Information on non-NPL sites can be obtained by contacting the Region 8 Superfund Records Center at (303) 312-6473. These disclosures may include Confidential Business Information (“CBI”) which has been submitted to EPA Region 8, Office of Enforcement, Compliance and Environmental Justice and/or the Office of Ecosystems Protection and Remediation. Toeroek's offices are located at 6770 West 52nd Avenue, Suite A, Arvada, CO 80002-3928.

DATES: Comments are due by March 9, 2000.

ADDRESSES: Comments should be sent to Virginia Phillips, Office of Enforcement, Compliance and Environmental Justice, Technical Enforcement Program, Environmental Protection Agency, Region 8, 999 18th Street, Suite 500, ENF-T, Denver, Colorado 80202; (303) 312-6197.

FOR FURTHER INFORMATION CONTACT: Virginia Phillips, Office of Enforcement, Compliance and Environmental Justice, Technical Enforcement Program, Environmental Protection Agency, Region 8, 999 18th Street, Suite 500, ENF-T, Denver, Colorado 80202; (303) 312-6197.

SUPPLEMENTARY INFORMATION: Notice of Required Determinations, Contract Provisions and Opportunity to Comment: The Comprehensive Environmental Response, Compensation and Liability Act of 1980 (“CERCLA”), as amended, (commonly known as “Superfund”) requires the establishment of documentation upon which the President shall base cost recovery actions. EPA has entered into Enforcement Support Services Contract Two (2ESS), contract No. 68-W-99-050 with Toeroek for analysis and management of these documents. EPA Region 8 has determined that disclosure of CBI to Toeroek employees is necessary in order that they may carry out the work required under this contract with EPA. The contract complies with all requirements of 40 CFR 2.301(h)(2)(ii) and 40 CFR 2.310 (h). EPA Region 8 will require that each Toeroek employee working on financial analysis and/or cost recovery work sign a written agreement that he or she:

(1) Will use the information only for the purpose of carrying out the work required by the contract.

(2) Shall refrain from disclosing the information to anyone other than EPA without the prior written approval of each affected business or of an EPA legal office, and;

(3) Shall return to EPA all copies of the information and any abstracts or extracts therefrom, (a) Upon completion of the contract, (b) Upon request of the EPA, or (c) Whenever the information is no longer required by Toeroek for performance of work requested under the contract. These non-disclosure statements shall be maintained on file with the EPA Region 8 Project Officer for Toeroek. All Toeroek employees who will handle CBI will be provided technical direction from EPA contract management staff.

EPA hereby advises affected parties that they have ten working days to comment pursuant to 40 CFR 2.301(h)(2)(iii) and 40 CFR 2.310(h).

Dated: November 3, 1999.
Jack W. McGraw,
Acting Regional Administrator, Region 8.

U.S. EPA Superfund

NPL Site Listing

Sorted by State/Site

Colorado

Air Force Plant PJKS

Asarco Inc (Globe Plant)

Broderick Wood Products

California Gulch

Central City-Clear Creek

Chemical Sales Co

Denver Radium Site

Eagle Mine

Lincoln Park

Lowry Landfill

Marshall Landfill

Rocky Flats Plant (USDOE)

Rocky Mountain Arsenal (USArmy)

Sand Creek Industrial

Smeltertown Site

Smuggler Mountain

Summitville Mine

Uravan Uranium Project (Union Carbide)

Vasquez Boulevard and I-70

Woodbury Chemical Co.

Montana

Anaconda Co. Smelter

Basin Mining Area

Burlington Northern Livingston Complex

East Helena Site

Idaho Pole Co

Libby Groundwater Contamination

Milltown Reservoir Sediments

Montana Pole and Treating

Mouat Industries

Silver Bow Creek/Butte Area

Upper Tenmile Creek Mining Area

North Dakota

Arsenic Trioxide Site

Minot Landfill

South Dakota

Ellsworth Air Force Base

Whitewood Creek

Williams Pipe Line Co. Disposal Pit

Utah

Hill Air Force Base

Intermountain Waste Oil Refinery

International Smelting and Refining

Jacobs Smelter Site

Kennecott (North Zone)

Kennecott (South Zone)

Midvale Slag

Monticello Mill Tailings (USDOE)

Monticello Radioactive Contaminated Prop.

Murray Smelter

Ogden Defense Depot (DLA)

Petrochem Recycling Corp/Ekotek Plant

Portland Cement (Kiln Dust 2 & 3)

Richardson Flat Tailings

Rose Park Sludge Pit

Sharon Steel Corp. (Midvale Tailings)

Tooele Army Depot (North Area)

Utah Power & Light/American Barrel Co.

Wasatch Chemical Co. (Lot 6)

Baxter/Union Pacific Tie Treating

F.E. Warren Air Force Base

Mystery Bridge Rd/U.S. Highway 20

Wyoming

Baxter/Union Pacific Tie Treating

F.E. Warren Air Force Base

Mystery Bridge at Hwy 20

[FR Doc. 00-4657 Filed 2-25-00; 8:45 am]

BILLING CODE 6560-50-P